INTERNATIONAL TRADE COMMISSION

[Investigation No. 731-TA-1020 (Third Review)]

Barium Carbonate From China

Determination

On the basis of the record ¹ developed in the subject five-year review, the United States International Trade Commission (“Commission”) determines, pursuant to the Tariff Act of 1930 (“the Act”), that revocation of the antidumping duty order on barium carbonate from China would be likely to lead to continuation or recurrence of material injury to an industry in the United States within a reasonably foreseeable time.

¹ The record is defined in § 207.2(f) of the Commission's Rules of Practice and Procedure (19 CFR 207.2(f)).

Background

The Commission instituted this review on January 2, 2020 (85 FR 125) and determined on April 6, 2020 that it would conduct an expedited review (85 FR 42918, July 15, 2020).

The Commission made this determination pursuant to section 751(c) of the Act (19 U.S.C. 1675(c)). It completed and filed its determination in this review on August 10, 2020. The views of the Commission are contained in USITC Publication 5098 (August 2020), entitled Barium Carbonate from China: Investigation No. 731-TA-1020 (Third Review).

By order of the Commission.
Issued: August 10, 2020.
Lisa Barton,
Secretary to the Commission.

[FR Doc. 2020-17769 Filed 8-13-20; 8:45 am]

BILLING CODE 7020-02-P